DEPARTMENT OF AGRICULTURE

Animal and Plant Health Inspection Service

9 CFR Part 94

[Docket No. 00-104-1]

Change in Disease Status of KwaZulu-Natal Province in the Republic of South Africa Because of Rinderpest and Foot-and-Mouth Disease

AGENCY: Animal and Plant Health Inspection Service, USDA.

ACTION: Interim rule and request for comments.

SUMMARY: We are amending the regulations governing the importation of certain animals, meat, and other animal products by removing KwaZulu-Natal, a province in the Republic of South Africa, from the list of regions considered to be free of rinderpest and foot-and-mouth disease. We are taking this action because the existence of foot-and-mouth disease has been confirmed there. The effect of this action is to prohibit or restrict the importation of any ruminant or swine and any fresh (chilled or frozen) meat and other products of ruminants or swine into the United States from KwaZulu-Natal.

DATES: This interim rule was effective September 12, 2000. We invite you to comment on this docket. We will consider all comments that we receive by January 2, 2001.

ADDRESSES: Please send four copies of your comment (an original and three copies) to: Docket No. 00-104-1, Regulatory Analysis and Development, PPD, APHIS, Suite 3C03, 4700 River Road, Unit 118, Riverdale, MD 20737-1238. Please state that your comment refers to Docket No. 00-104-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Glen Garris, Supervisory Staff Officer, Regionalization Evaluation Services Staff, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other regions of the world not listed. Section 94.11 of the regulations lists regions of the world that have been declared to be free of rinderpest and FMD, but are subject to certain restrictions because of their proximity to or trading relationships with rinderpest-or FMD-affected regions.

Prior to the effective date of this interim rule, the Republic of South Africa, except the FMD-controlled area that includes Kruger National Park, was among the listed regions in §§ 94.1 and 94.11 considered to be free of rinderpest and FMD. However, on September 12, 2000, a suspected outbreak of FMD was detected in the South African province of KwaZulu-Natal; on September 17, 2000, the Republic of South Africa's National Department of Agriculture (National Department of Agriculture) notified the Office International des Epizooties (OIE) with clinical confirmation of the FMD diagnosis.

Therefore, to protect the livestock of the United States from FMD, we are amending the regulations in § 94.1 by removing the province of KwaZulu-Natal from the list of regions considered to be free of rinderpest and FMD. We are also removing KwaZulu-Natal from the list of regions in § 94.11 that are considered to be free of these diseases, but are subject to certain restrictions because of their proximity to or trading relationships with rinderpest-or FMD-affected regions. Other regions of the Republic of South Africa, with the exception of the FMD-controlled area that includes Kruger National Park, will remain on the list of regions considered to be free of rinderpest and FMD. As a result of this action, the importation into the United States of any ruminant or swine and any fresh (chilled or frozen) meat and other products of ruminants or swine that left KwaZulu-Natal on or after September 12, 2000, is prohibited or restricted. We are making these amendments effective on September 12, 2000, because that is the day that FMD was initially detected in KwaZulu-Natal.

Although we are removing the province of KwaZulu-Natal from the list of regions considered to be free of rinderpest and FMD, we recognize that the National Department of Agriculture responded immediately to the detection of the disease by imposing restrictions on the movement of ruminants, swine, and ruminant and swine products from the affected area and initiating measures to eradicate the disease. At the time of publication of this interim rule, it appears that the outbreak is well controlled. Because of the National Department of Agriculture's efforts to ensure that FMD does not spread beyond the province of KwaZulu-Natal, we intend to reassess the situation in accordance with the standards of the OIE. As part of that reassessment process, we will consider all comments received on this interim rule. This future reassessment will determine whether it is necessary to continue to prohibit or restrict the importation of ruminants or swine and any fresh (chilled or frozen) meat and other products of ruminants or swine from KwaZulu-Natal, or whether we can restore the province of KwaZulu-Natal to the list of regions considered free of rinderpest and FMD.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

This interim rule amends the regulations by removing the Republic of South Africa province of KwaZulu-Natal from the list of regions considered free of rinderpest and FMD. We are taking this action because the Republic of South Africa's National Department of Agriculture has reported cases of FMD in that region. This action prohibits or restricts the importation into the United States of any ruminant or swine, and any fresh (chilled or frozen) meat and other products of ruminants or swine, that left the province of KwaZulu-Natal on or after September 12, 2000. This action is necessary to protect the livestock of the United States from FMD.

This emergency situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12988

This rule has been reviewed under Executive Order 12988, Civil Justice Reform. This rule: (1) Preempts all State and local laws and regulations that are inconsistent with this rule; (2) has retroactive effect to September 12, 2000; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94 RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: Title IV, Pub. L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. In § 94.1, paragraph (a)(2) is amended by adding the words “the province of KwaZulu-Natal and” immediately after the words “Republic of South Africa except”.

§ 94.11 [Amended]

3. In § 94.11, paragraph (a) is amended by adding the words “the province of KwaZulu-Natal and” immediately after the words “Republic of South Africa except”.

Done in Washington, DC, this 27th day of October 2000.
Bobby R. Acord,
Acting Administrator, Animal and Plant Health Inspection Service.

[FR Doc. 00-28084 Filed 10-30-00; 1:56 pm]

BILLING CODE 3410-34-P